DEPARTMENT OF AGRICULTURE

Forest Service

Crescent Ranger District; Deschutes National Forest; Klamath County, Oregon; Marsh Project Environmental Impact Statement

AGENCY: Forest Service, USDA.

ACTION: Notice of intent to prepare an environmental impact statement.

SUMMARY: The USDA, Forest Service, will prepare an environmental impact statement (EIS) for a project called Marsh, in the southwestern portion of the Crescent Ranger District just south of Crescent Lake. The Forest Service is approaching this project by looking at the environmental benefits that the project area provides, from recreation experiences to wildlife habitat, and from water quality to scenic views. The goal of the project is to increase the net benefits that people receive from the project area currently, and allow the area to continue to provide this diverse range of benefits into the future. We are using the term “ecosystem services” to represent all these benefits that areas such as the Marsh project area provide to people.

The focal point of the planning area is Big Marsh, one of the largest high elevation wetland/marsh complexes in the continental United States. In the upland portions of the planning area, the vegetation is primarily comprised of lodgepole pine with some ponderosa pine to the north and mixed conifer on the valley flanks. The area is also of high value for its biological resources (including the largest Oregon Spotted Frog population in the state), dispersed recreation opportunities, matsutake mushroom habitat (a commercially harvested and culturally significant species), big game and fish habitat, and cultural resources, as well as provision of water quality and quantity flowing into the Little Deschutes River and beyond.

The project area is an approximately 30,000 acre watershed, located in T. 24, 25, 25.5, & 26 S, R. 5.5, 6, 6.5, & 7 E., Willamette Meridian. The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Tim Foley, Team Leader, Crescent Ranger District, P.O. Box 208, Crescent, Oregon 97733, or submit to comments-pacificnorthwest-deschutes-crescent@fs.fed.us. Please put “Marsh Scoping” in the subject line of your email. You will have another opportunity for comment when alternatives have been developed and the Environmental Impact Statement is made available.

FOR FURTHER INFORMATION CONTACT: Tim Foley, Team Leader, Crescent Ranger District, P.O. Box 208, Crescent, Oregon 97733, phone (541) 433-3200.

Responsible Official: The responsible official will be Holly Jewkes, Crescent District Ranger, P.O. Box 208, Crescent, Oregon 97733.

SUPPLEMENTARY INFORMATION:

Purpose and Need: As directed by the Multiple Use Sustained Yield Act, there is a need to maintain and enhance the variety of resources, or environmental benefits, in combination provided by National Forest System lands. The purpose of this project is to manage for the provision of a suite of ecological and cultural benefits expressed by the public which are distinctive to the Marsh planning area and can be effectively managed by the Forest Service and its partners: high quality dispersed recreation opportunities; matsutake mushroom habitat; a clean, functioning water source to the hydrologic system; high quality habitat for a variety of plant and animal species, including some species classified as threatened or endangered; scenic views; and a sense of remoteness. There is a need to both address natural and human threats to this current range of benefits being provided, and also enhance the ecosystem's capacity to provide a similar amount and diverse set of benefits in the future.

Proposed Action: The goal of the project is to balance impacts to values, in such a way that the values most at risk get addressed without substantially reducing the ability of the landscape to provide any of the other benefits into the future. It is in this vein that the Forest Service proposes the following actions: Remove approximately 225 acres of lodgepole pine encroachment in meadows and riparian areas; Plant approximately 100 acres of hardwoods and other natural vegetation in riparian areas; Restore of natural water flow by recontouring approximately 5 miles of historical ditches and creating a small number of beaver dams in the upper reaches of the watershed; Redefine the boundaries of approximately 25 dispersed campsites; Restore approximately 2 miles of closed roads and user-created ATV trails; Open approximately ½ mile of Forest Service road 5825-540 to the public; Remove approximately 65 acres of Invasive Reed Canary Grass; Thin approximately 725 acres of trees for fuels and density management; Approximately 1,000 acres of prescribed fire in areas dominated by ponderosa pine; Enhance a small number of scenic view opportunities through vegetation management.

Comment: Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to object to the subsequent decision under 36 CFR part 218. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days. A draft EIS will be filed with the Environmental Protection Agency (EPA) and available for public review by Spring 2014. The EPA will publish a Notice of Availability (NOA) of the draft EIS in the Federal Register. The final EIS is scheduled to be available early fall 2014. The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Crescent District Ranger, Deschutes National Forest. The responsible official will decide where, and whether or not to manage for recreation, hydrology, access, vegetation and other resources, values and ecosystem services within the project area. The responsible official will also decide how to mitigate impacts of these actions and will determine when and how monitoring of effects will take place.

The Marsh Project decision and rationale will be documented in the Record of Decision. Per 36 CFR 218.7(a)(2), this is a project implementing a land management plan and not authorized under the HFRA, section 101(2), and is thus subject to subparts A and C of 36 CFR part 218—Project-level Predecisional Administrative Review Process.

Dated: April 16, 2013.
Holly Jewkes,
Crescent District Ranger.

[FR Doc. 2013-09747 Filed 4-25-13; 8:45 am]

BILLING CODE 3410-11-P